DEPARTMENT OF HEALTH AND HUMAN SERVICES

Indian Health Service

Proposed Information Collection: Request for Public Comment: 60-Day Notice

AGENCY: Indian Health Service, HHS.

ACTION: Request for Public Comment: 60-day Proposed Collection; Hoz'ho'nii: An Intervention to Increase Breast and Cervical Cancer Screening Among Navajo Women.

SUMMARY: In compliance with Section 3506(c)(2)(A) of the Paperwork Reduction Act of 1995, to provide a 60-day advance opportunity for public comment on proposed information collection projects, the Indian Health Service (IHS) is publishing for comment a summary of a proposed information collection to be submitted to the Office of Management and Budget (OMB) for review.

Proposed Collection

Title: Hoz'ho'nii: An Intervention to Increase Breast and Cervical Cancer Screening Among Navajo Women.

Type of Information Collection Request: Previously Approved Collection.

Form Number: None.

Need and Use of the Information Collection: The information is needed to evaluate a culturally appropriate educational outreach program designed to increase breast and cervical cancer screening among Navajo women ages 20 and older. The purpose is to identify barriers that may prevent Navajo women from participating in breast and cervical cancer screening by comparing changes in knowledge, attitudes, and behaviors of three study groups; educational outreach only, education outreach plus chapter-based clinic, and a control group. Results will be used to assess the impact of the impact of the educational outreach program, improve breast and cervical cancer screening, and to guide the IHS and Tribal health programs in the delivery of culturally appropriate intervention to reduce mortality rates from breast and cervical cancer among Navajo women.

Affected Public: Individuals.

Type of Respondents: Individuals.

The table below provides the estimated burden response for this information collection:

Estimated Burden Response Table
Data collection instrument | Estimated number of respondents | Responses per respondent | Average burden hour per response * | Total annual burden hrs.
KAB Pretest | 450 | 1 | 0.42 hr (25 minutes) | 188.0 hrs
KAB Post test | 450 | 1 | 0.42 hr (25 minutes) | 188.0 hrs
Interviews | 30 | 1 | 0.25 hr (15 minutes) | 8.0 hrs
TOTAL | 930 | 1 |  | 384.0 hrs
* For ease of understanding, burden hours are also provided in actual minutes.
There are no Capital Costs, Operating Costs and/or Maintenance Costs to report for this information collection

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Send Comments and Requests For Further Information: Send your written comments, requests for more information on the proposed collection, or requests to obtain a copy of the data collection instrument(s) and instructions to: Ms. Christina Ingersoll, IHS Reports Clearance Officer, 12300 Twinbrook Parkway, Suite 450, Rockville, MD 20852-1601, call non-toll free (301) 443-5938, send via facsimile to (301) 443-1522, or send your E-mail requests, comments, and return address to: cingerso@hqe.ihs.gov.

Comment Due Date: Your comments regarding this information collection are best assured of having their full effect if received within 60-days of the date of this publication.

Dated: January 26, 2004.
Charles W. Grim,
Assistant Surgeon General, Director, Indian Health Service.

[FR Doc. 04-2642 Filed 2-6-04; 8:45 am]

BILLING CODE 4160-16-M